ENVIRONMENTAL PROTECTION AGENCY

[FRL-7984-2]

Science Advisory Board Staff Office; Scientific and Technological Achievement Awards Review Panel (FY2006-FY2009) Request for Nominations

AGENCY: Environmental Protection Agency (EPA).

ACTION: Notice.

SUMMARY: The EPA Science Advisory Board (SAB) Staff Office is requesting nominations for experts to serve on a SAB Scientific and Technological Achievement Awards (STAA) Review Panel (FY2006-FY2009). This Panel reviews peer-reviewed publications from EPA scientists and makes recommendations for awards.

DATES: Nominations should be submitted by November 7, 2005 per instructions below.

FOR FURTHER INFORMATION CONTACT: Any member of the public wishing further information regarding this Notice and Request for Nominations may contact Ms. Vivian Turner, Designated Federal Officer (DFO), SAB Staff Office, by telephone/voice mail at (202) 343-9697; by fax at (202) 233-0643 or via e-mail at turner.vivian@epa.gov. General information concerning the EPA Science Advisory Board can be found at the EPA SAB Web site at: http://www.epa.gov/sab.

SUPPLEMENTARY INFORMATION: EPA has established the STAA to honor and recognize EPA employees who have made outstanding contributions to science and technology through publication in peer-reviewed journals. EPA's Office of Research and Development (ORD) has requested the SAB to review the nominated scientific publications. Accordingly, the SAB Staff Office, under the auspices of the SAB, is forming a new panel to review the nominated publications. The SAB is chartered under the Federal Advisory Committee Act (FACA), as amended (5 U.S.C. App.). The Panel will comply with the provisions of FACA and SAB procedural policies, including the SAB process for panel formation described in the Overview of the Panel Formation Process at the Environmental Protection Agency Science Advisory Board, which can found on the SAB Web site at: http://www.epa.gov/sab/pdf/ecm02003.pdf. The Panel will hold a closed meeting to develop award recommendations.

Request for Nominations

The SAB is soliciting nominations of nationally recognized scientists and engineers to serve on the STAA Panel for a term of three years. The Panel will consider nominations in the areas of: Control systems and technology; monitoring and measurement methods (all media); health effects and human risk assessment; ecological effects and ecological risk assessment; ecosystem restoration; chemical fate, transport and exposure assessment; risk management; integrated risk assessment; social sciences; and environmental futures. These areas are described in more detail at the web site identified above.

Process and Deadline for Submitting Nominations

Any interested person or organization may nominate individuals qualified in the areas of expertise described above to serve on the SAB STAA Review Panel. Nominations should be submitted in electronic format through the SAB Nomination Form which can be accessed through a link on the blue navigational bar on the SAB Web site at: http://www.epa.gov/sab/panels/paneltopics.html. To be considered, all nominations must include the information requested on that form.

Anyone who is unable to submit nominations using the electronic form or questions concerning any aspect of the nomination process may contact the DFO, as indicated above in this notice. Nominations should be submitted no later than November 7, 2005. Any questions concerning either this process or any other aspects of this notice should be directed to the DFO. The process for forming a SAB panel is described in the Overview of the Panel Formation Process at the Environmental Protection Agency, Science Advisory Board (EPA-SAB-EC-COM-02-010), which may be accessed on the SAB Web site at: http://www.epa.gov/sab/pdf/ec02010.pdf.

Nominees identified by respondents to this Federal Register notice (termed the “Widecast”) will be evaluated on the basis of scientific expertise and experience in the aforementioned descriptions, as well as prior national committee experience. Appropriately profiled candidates will be identified and placed on a “Short List” for further consideration. The “Short List” will be posted on the SAB Web site at http://www.epa.gov/sab and will include the nominee's name and biosketch. Public comments on the “Short List” will be accepted during a public comment period. The public will be requested to provide information, analysis or other documentation on nominees that the SAB Staff Office should consider in evaluating candidates for the Panel.

The STAA panelists will be selected from the “Short List.” For the SAB, a balanced panel is characterized by inclusion of candidates who possess the necessary domains of knowledge, the relevant scientific perspectives (which, among other factors, can be influenced by work history and affiliation), and the collective breadth of expertise and experience to adequately address the charge. Public responses to the “Short List” candidates will be considered in the selection of the panel, along with information provided by candidates and information gathered by SAB Staff independently on the background of each candidate (e.g., financial disclosure information and computer searches to evaluate a nominee's prior involvement with the topic under review). Specific criteria to be used in evaluation of an individual Panel member include: (a) Scientific and/or technical expertise, knowledge, and experience (primary factors); (b) absence of financial conflicts of interest; (c) scientific credibility and impartiality; (d) availability and willingness to serve; and (e) ability to work constructively and effectively in committees.

Potential panelists will be required to complete and submit the “Confidential Financial Disclosure Form for Special Government Employees Serving on Federal Advisory Committees at the U.S. Environmental Protection Agency” (EPA Form 3110-48). This confidential form allows Government officials to determine whether there is a statutory conflict between that person's public responsibilities (which includes membership on an EPA Federal advisory committee) and private interests and activities, or the appearance of a lack of impartiality, as defined by Federal regulation. The form may be viewed and downloaded from the following URL address: http://www.epa.gov/sab/pdf/epaform3110-48.pdf.

Dated: October 7, 2005.
Anthony F. Maciorowski,
Associate Director for Science, EPA Science Advisory Board Staff Office.

[FR Doc. 05-20705 Filed 10-14-05; 8:45 am]

BILLING CODE 6560-50-P